DEPARTMENT OF TRANSPORTATION

Federal Aviation Administration

Agency Information Collection Activities: Requests for Comments; Clearance of Renewed Approval of Information Collection: Flight and Duty Limitations and Rest Requirements—Flightcrew Members

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on July 31, 2018. The collection involves reporting exceeded flight duty periods and flight times, including scheduled maximum and actual flight duty periods and flight times, basic flight information (e.g., city pairs, departure times, flight number), and reason for exceedance. Reporting and recordkeeping are required any time a certificated air carrier has exceeded a maximum daily flight time limit or a maximum daily Flight Duty Period (FDP) limit. It is also required for the voluntary development of a Fatigue Risk Management System (FRMS), and for fatigue training. The information is necessary to monitor trends in exceedance and possible underlying systemic causes requiring operator action, and to determine whether operator is scheduling realistically.

DATES: Written comments should be submitted by December 20, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION: OMB Control Number: 2120-0751.

Title: Flight and Duty Limitations and Rest Requirements—Flightcrew Members.

Form Numbers: There are no forms associated with this collection.

Type of Review: This is a renewal of an information collection.

Background: The Federal Register Notice with a 60-day comment period soliciting comments on the following collection of information was published on July 31, 2018 (83 FR 37041). The FAA collects reports from air carriers conducting passenger operations certificated under 14 CFR part 121 as prescribed in 14 CFR part 117 Flightcrew Member Duty and Rest Requirements, §§ 117.11 and 117.19. Air carriers are required to submit a report of exceeded flight duty periods and flight times, including scheduled maximum and actual flight duty periods and flight times, basic flight information (e.g., city pairs, departure times, flight number), and reason for exceedance. The purpose for the reports is to notify the FAA that the certificate holder has extended a flight time and/or FDP limitation. This information enables FAA to monitor trends in exceedance and possible underlying systemic causes requiring operator action as well as determine whether operators are scheduling realistically. Additionally, if air carriers choose to develop a Fatigue Risk Management System (FRMS) they are required to collect data specific to the need of the operation for which they will seek an FRMS authorization. It results in an annual recordkeeping and reporting burden when carriers adopt the system because they need to report the related activities to the FAA. Each air carrier is also required to develop specific elements and incorporate these elements into their training program. Once the elements have been incorporated, the air carrier must submit the revised training program for approval.

Respondents: 67 Certificated Air Carriers.

Frequency: On Occasion.

Estimated Average Burden per Response: 20 Hours.

Estimated Total Annual Burden: 3,178 Hours.

Issued in Washington, DC, on November 14, 2018.
Barbara Hall,
FAA Information Collection Clearance Officer, Performance, Policy, and Records Management Branch, ASP-110.

[FR Doc. 2018-25305 Filed 11-19-18; 8:45 am]

BILLING CODE 4910-13-P